NATIONAL CREDIT UNION ADMINISTRATION

Sunshine Act; Notice of Agency Meeting

TIME AND DATE: 10 a.m., Thursday, May 20, 2010.

PLACE: Board Room, 7th Floor, Room 7047, 1775 Duke Street, Alexandria, VA 22314-3428.

STATUS: Open.

MATTERS TO BE CONSIDERED: 1. Briefing on Final Rule—Parts 741 and 761 of NCUA's Rules and Regulations, Implementation of the Secure and Fair Enforcement for Mortgage Licensing Act of 2008 (S.A.F.E. Act).

2. Extension of the Temporary Corporate Credit Union Liquidity Guarantee Program.

3. Insurance Fund Report.

RECESS: 11 a.m.

TIME AND DATE: 11:15 a.m., Thursday, May 20, 2010.

PLACE: Board Room, 7th Floor, Room 7047, 1775 Duke Street, Alexandria, VA 22314-3428.

STATUS: Closed.

MATTERS TO BE CONSIDERED: 1. Member Business Loan Waiver Appeal. Closed pursuant to Exemption (8).

2. Consideration of Supervisory Activities (2). Closed pursuant to some or all of the following exemptions: (8), (9)(A)(ii) and 9(B).

FOR FURTHER INFORMATION CONTACT: Mary Rupp, Secretary of the Board, Telephone: 703-518-6304.

Mary Rupp,
Board Secretary.

[FR Doc. 2010-11879 Filed 5-13-10; 4:15 pm]

BILLING CODE 7535-01-P